INTERNATIONAL TRADE COMMISSION

Investigation Nos. AA1921-197 (Second Review); 701-TA-319, 320, 325-327, 348, and 350 (Second Review); and 731-TA-573, 574, 576, 578, 582-587, 612, and 614-618 (Second Review): Certain Carbon Steel Products from Australia, Belgium, Brazil, Canada, Finland, France, Germany, Japan, Korea, Mexico, Poland, Romania, Spain, Sweden, Taiwan, and the United Kingdom

ACTION: Withdrawal of notice of determination.

SUMMARY: The U.S. International Trade Commission (Commission) is withdrawing the notice of determination in Investigation Nos. AA1921-197 (Second Review); 701-TA-319, 320, 325-327, 348, and 350 (Second Review); and 731-TA-573, 574, 576, 578, 582-587, 612, and 614-618 (Second Review). This action is being taken because the notice was released in error.

SUPPLEMENTARY INFORMATION: On December 28, 2006 (71 FR 78222), the Commission published a notice in the Federal Register detailing its determination in Investigation Nos. AA1921-197 (Second Review); 701-TA-319, 320, 325-327, 348 and 350 (Second Review); and 731-TA-573, 574, 576, 578, 582-587, 612, and 614-618 (Second Review): Certain Carbon Steel Products from Australia, Belgium, Brazil, Canada, Finland, France, Germany, Japan, Korea, Mexico, Poland, Romania, Spain, Sweden, Taiwan, and the United Kingdom. The Federal Register notice was issued inadvertently, prior to notification of the U.S. Department of Commerce by the Commission of the Commission's determination. A notice detailing the Commission's determination will be published at a later date.

FOR FURTHER INFORMATION CONTACT: Michael Szustakowski (202-205-3188) or Douglas Corkran (202-205-3057).

By order of the Commission.
Issued: December 28, 2006.
Marilyn R. Abbott,
Secretary to the Commission.

[FR Doc. 06-9982 Filed 12-28-06; 4:10 pm]

BILLING CODE 7020-02-P